DEPARTMENT OF ENERGY

Federal Energy Regulatory Commission

[Docket No. CP08-72-000]

Northern Border Pipeline Company; Notice of Filing

February 26, 2008.

Take notice that on February 13, 2008, Northern Border Pipeline Company (Northern Border), P.O. Box 542500, Omaha, Nebraska 68154-8500, filed an application, pursuant to section 7(c) of the Natural Gas Act (NGA) and Part 157 of the Commission's Rules and Regulations, requesting the issuance of a certificate of public convenience and necessity authorizing the construction, ownership, and operation of a compressor station along with a new receipt point interconnection and appurtenant facilities (Des Plaines Project) in Will County, Illinois. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Des Plaines Project is proposed in response to a request of Northern States Power Company, to obtain firm backhaul transportation service of 59,681 Dth/day from a receipt point interconnection with ANR Pipeline Company (ANR) located in Will County Illinois to a delivery point at Ventura, Iowa. The proposed project will consist of one 1,600 horsepower natural gas compressor and related facilities along with a new meter station interconnecting with ANR. The project has a maximum design capacity of 60,000 Dth/day and will be located on property owned by Northern Border. The estimated cost to construct the facilities is $17,221,000. Northern Border proposed an in-service date of November 1, 2008.

Any questions regarding the application are to be directed to Bambi Heckerman, Manager, Regulatory Affairs, Northern Border Pipeline Company, 13710 FNB Parkway, Omaha, NE 68154-5200; phone number (402) 492-7575 or by e-mail at bambi_heckerman@transcanada.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: March 18, 2008.

Kimberly D. Bose,
Secretary.

[FR Doc. E8-4163 Filed 3-4-08; 8:45 am]

BILLING CODE 6717-01-P